SUSQUEHANNA RIVER BASIN COMMISSION

Actions Taken at June 14, 2019, Meeting

AGENCY: Susquehanna River Basin Commission.

ACTION: Notice.

SUMMARY: As part of its regular business meeting held on June 14, 2019, in Harrisburg, Pennsylvania, the Commission approved the applications of certain water resources projects, and took additional actions, as set forth in the Supplementary Information below.

DATES: June 14, 2019.

ADDRESSES: Susquehanna River Basin Commission, 4423 N Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) Informational presentation of interest to the lower Susquehanna River region; (2) election of the member from the Commonwealth of Pennsylvania as Chair of the Commission and the member from the State of Maryland as Vice Chair of the Commission for the period of July 1, 2019, to June 30, 2020; (3) adoption of the expense budget for FY2021; (4) adoption of the member allocation for FY2021; (5) ratification/approval of contracts/grants; (6) approval of two emergency certificate extensions; (7) a report on delegated settlements; (8) a report on settlement of regulatory violations; (9) adoption of the water resources program for FY2019-2021; (10) adoption of amendments to the Comprehensive Plan for the Water Resources of the Susquehanna River Basin; and (11) Regulatory Program projects.

Project Applications Approved

The Commission approved the following project applications:

1. Project Sponsor and Facility: Project Sponsor and Facility: ARD Operating, LLC (Pine Creek), McHenry Township, Lycoming County, Pa. Application for renewal of surface water withdrawal of up to 1.500 mgd (peak day) (Docket No. 20150601).

2. Project Sponsor and Facility: BKV Operating, LLC (Meshoppen Creek), Washington Township, Wyoming County, Pa. Application for renewal of surface water withdrawal of up to 2.160 mgd (peak day) (Docket No. 20150602).

3. Project Sponsor and Facility: BKV Operating, LLC (Susquehanna River), Washington Township, Wyoming County, Pa. Application for surface water withdrawal of up to 2.914 mgd (peak day).

4. Project Sponsor and Facility: BKV Operating, LLC (Unnamed Tributary to Middle Branch Wyalusing Creek), Forest Lake Township, Susquehanna County, Pa. Application for renewal of surface water withdrawal of up to 0.648 mgd (peak day) (Docket No. 20150603).

5. Project Sponsor and Facility: Town of Chenango, Broome County, N.Y. Application for renewal of groundwater withdrawal of up to 0.600 mgd (30-day average) from Well 12A (Docket No. 19871103).P

6. Project Sponsor and Facility: Epsilon Energy USA, Inc. (East Branch Wyalusing Creek), Rush Township, Susquehanna County, Pa. Application for surface water withdrawal of up to 0.715 mgd (peak day).

7. Project Sponsor and Facility: Hydro Recovery, LP, Blossburg Borough, Tioga County, Pa. Application for renewal of groundwater withdrawal of up to 0.216 mgd (30-day average) from Well HR-1 (Docket No. 20150608).

8. Project Sponsor and Facility: Hydro Recovery, LP, Blossburg Borough, Tioga County, Pa. Application for renewal of consumptive use of up to 0.316 mgd (peak day) (Docket No. 20150608).

9. Project Sponsor: Project Sponsor and Facility: Keystone Clearwater Solutions, LLC (Lycoming Creek), Lewis Township, Lycoming County, Pa. Application for renewal of surface water withdrawal of up to 1.250 mgd (peak day) (Docket No. 20150610).

10. Project Sponsor: Ski Roundtop Operating Corporation. Project Facility: Roundtop Mountain Resort (Unnamed Tributary to Beaver Creek), Warrington Township, York County, Pa. Modification to change from peak day to 30-day average for surface water withdrawal and consumptive use limits (Docket No. 20031209).

11. Project Sponsor and Facility: Stewartstown Borough Authority, Hopewell Township, York County, Pa. Application for renewal of groundwater withdrawal of up to 0.019 mgd (30-day average) from Well 5A4 (Docket No. 19890703).

12. Project Sponsor and Facility: Stewartstown Borough Authority, Hopewell Township, York County, Pa. Application for renewal of groundwater withdrawal of up to 0.033 mgd (30-day average) from Well 5J2 (Docket No. 19890703).

13. Project Sponsor and Facility: Stewartstown Borough Authority, Hopewell Township, York County, Pa. Application for renewal of groundwater withdrawal of up to 0.051 mgd (30-day average) from Well 5R2 (Docket No. 19890703).

14. Project Sponsor: SUEZ Water Pennsylvania Inc. Project Facility: Newberry Operation, Newberry Township, York County, Pa. Application for renewal of groundwater withdrawal of up to 0.072 mgd (30-day average) from the Dupont Well (Docket No. 19880401).

15. Project Sponsor and Facility: Sunset Golf Course, Londonderry Township, Dauphin County, Pa. Application for groundwater withdrawal of up to 0.059 mgd (30-day average) from Well 7.

16. Project Sponsor and Facility: Sunset Golf Course, Londonderry Township, Dauphin County, Pa. Minor modification to add a new source (Well 7) to existing consumptive use approval (no increase requested in consumptive use quantity) (Docket No. 19990506).

17. Project Sponsor and Facility: Warwick Township Municipal Authority, Warwick Township, Lancaster County, Pa. Application for renewal of groundwater withdrawal of up to 0.288 mgd (30-day average) from Well 1 (Docket No. 19890103).

Authority: Pub. L. 91-575, 84 Stat. 1509 et seq., 18 CFR parts 806, 807, and 808.

Dated: June 20, 2019.
Jason E. Oyler,
General Counsel and Secretary to the Commission.

[FR Doc. 2019-13481 Filed 6-24-19; 8:45 am]

BILLING CODE 7040-01-P